DEPARTMENT OF DEFENSE

Department of the Army; Corps of Engineers

Intent To Prepare an Environmental Impact Statement for a Marine Container Terminal at the Charleston Naval Complex in the City of North Charleston, Charleston County, SC

AGENCY: Department of the Army, U.S. Army Corps of Engineers, DoD.

ACTION: Notice of intent.

SUMMARY: The U.S. Army Corps of Engineers, Charleston District intends to prepare an Environmental Impact Statement (EIS) to assess the potential social, economic and environmental effects of the proposed construction of a marine container terminal by the South Carolina State Ports Authority (SCSPA), at the Charleston Naval Complex (CNC), on the Cooper River, in Charleston Harbor, the City of North Charleston, Charleston County, South Carolina. The EIS will assess potential effects of a range of alternatives, including the proposed alternative.

DATES: General Public Scoping Meeting: March 16, 2004, 6 p.m., Sterett Hall, Building #180, Charleston Naval Complex, North Charleston, SC (Located at the corner of Hobson Avenue and Calumet Road). Federal and State Agency Scoping Meeting: March 22, 2004, 1:30-4:30 p.m., Citadel Alumni Center, Renken Room, 69 Hagood Ave., Charleston, SC.

FOR FURTHER INFORMATION CONTACT: For further information and/or questions about the proposed project and EIS, please contact Ms. Tracy Hurst, Project Manager, by telephone: (843) 329-8032 or toll free 1-866-329-8187, or by mail: CESAC-RE-P, 69A Hagood Avenue, Charleston, SC 29403. For inquiries from the media, please contact the Corps, Charleston District Public Affairs Officer (PAO), Alicia Gregory by telephone: (843) 329-8123.

SUPPLEMENTARY INFORMATION: An application for a Department of the Army permit was submitted by the SCSPA pursuant to section 10 of the Rivers and Harbors Act of 1899 (33 U.S.C. 403) and section 404 of the Clean Water Act (33 U.S.C. 1344) on January 24, 2003, and was advertised in a local public notice, P/N #2003-1T-016-PC, on March 7, 2003. The SCSPA submitted revised drawings and clarification of information on impacts on January 29, 2004, which were advertised in a local public notice, P/N #2003-1T-016-PC (revised), on February 13, 2004. The March 7, 2003, public notice is available on Charleston District's public Web site at http://www.sac.usace.army.mil/permits/pn/PNs20030307/20031T016PC_SCSPA_NewContainerTerminal.pdf. The February 13, 2004, local public notice is also available on Charleston District's public Web site at http://www.sac.usace.army.mil/newinternet/org/regulatory/index.htm#permit. The SCSPA was advised that based on the significant potential social, economic and environmental effects associated with the construction of the proposed marine container terminal at the Charleston Naval Complex, an EIS would be prepared by the Charleston District, Corps of Engineers.

1. Description of Proposed Project. The project proposed by the South Carolina State Ports Authority (SCSPA) is to develop a marine container terminal at the south end of the CNC, on the Cooper River, in Charleston Harbor, the City of North Charleston, Charleston County, SC. The proposed terminal is designed to handle primarily containerized cargo and this Notice of Intent will refer to the proposed project as a marine container terminal. The marine container terminal development is approximately 288.1 acres and will support cargo marshalling areas, cargo processing areas, cargo-handling facilities, and related terminal operating facilities. Development of the site includes filling 13.9 acres of freshwater wetlands, and dredging and filling 53.5 acres of waters of the US, to include 7.2 acres of tidal marsh. Adjacent to the dredge and fill area, a 10.3-acre wharf structure measuring 3,000 feet long and 150 feet wide will be constructed. In addition to the container terminal development, the project includes dredging an 86.7-acre berthing area and turning basin adjacent to the wharf. Upland disposal of dredged material is proposed in existing dredged disposal sites located on the south end of Daniel Island, located in the City of Charleston, Charleston County, South Carolina.

2. Alternatives. The following alternatives have been identified as reasonable alternatives that will be fully evaluated in the EIS: No Action; the modification of existing SCSPA terminal facilities to meet the purpose and need of and for the proposed project; alternative locations within the jurisdictional authority of the SCSPA where the proposed project might be developed; alternative facility layouts for the proposed marine container terminal project at the CNC; alternatives for surface transportation access associated with the proposed marine container terminal project, and mitigation measures. However, this list is not exclusive and additional alternatives may be considered for inclusion as reasonable alternatives.

3. Scoping and Public Involvement Process. Scoping meetings will be conducted to gather information on the scope of the project and the alternatives to be addressed in detail in the EIS. There will be two (2) sessions, one specifically for the Federal and State agencies with regulatory responsibilities and one for the general public (see DATES). Additional public and agency involvement will be gained through the implementation of a public outreach plan that will be developed from input received by the public.

4. Significant Issues. Issues associated with the proposed project to be given significant analysis in the EIS are likely to include, but may not be limited to, the potential impacts of the proposed dredging, placement of fill, construction and operation of the proposed terminal and development of associated surface transportation, and related developments on: conservation, economics, aesthetics, general environmental concerns, wetlands, historic properties, fish and wildlife values, flood hazards, flood plain values, land use, navigation, shore erosion and accretion, recreation, water supply and conservation, water quality, air quality, energy needs, public health and safety, hazardous wastes and materials, food and fiber production, mineral needs, considerations of property ownership, environmental justice and, in general, the needs and welfare of the people.

5. Cooperating Agencies. The Federal Highway Administration has agreed to be a cooperating Federal agency due to the proposed facility's potential impact on the regional highway network including the Interstate system.

6. Additional Review and Consultation. Additional review and consultation which will be incorporated into the preparation of this EIS will include, but shall not be limited to: Section 401 of Clean Water Act, section 307(c) of the Coastal Zone Management Act; the Magnuson-Stevens Fishery Conservation and Management Act, the National Environmental Policy Act, the National Historic Preservation Act; the Endangered Species Act, and the Clean Air Act.

7. Availability of the Draft Environmental Impact Statement. The Draft Environmental Impact Statement (DEIS) is anticipated to be available in July of 2005. A Public Hearing will be conducted following the release of the DEIS.

Alvin B. Lee,
Lieutenant Colonel, U.S. Army, District Engineer.

[FR Doc. 04-3609 Filed 2-18-04; 8:45 am]

BILLING CODE 3710-CH-M